DEPARTMENT OF COMMERCE

National Oceanic and Atmospheric Administration

[I.D. 040902F]

Western Pacific Fishery Management Council; Public Meeting

AGENCY: National Marine Fisheries Service (NMFS), National Oceanic and Atmospheric Administration (NOAA), Commerce.

ACTION: Notice of public meeting.

SUMMARY: The Western Pacific Fishery Management Council’s (Council) Crustaceans Plan Team (CPT) members will hold a meeting.

DATES: The CPT meeting will be held on May 2, 2002, from 1 p.m. to 5 p.m.

ADDRESSES: The meetings will be held at the Western Pacific Fishery Management Council office, 1164 Bishop St., Suite 1400, Honolulu, HI 96813.

FOR FURTHER INFORMATION CONTACT: Kitty M. Simonds, Executive Director; telephone: (808) 522-8220.

SUPPLEMENTARY INFORMATION: The CPT will discuss and may make recommendations to the Council on the following agenda items:

1. Review of the 112th Council Meeting;

2. State of crustacean fisheries in region;

3. Lobster modeling workshop report;

4. Long term research planning;

5. Cooperative research program;

6. Reserve operations plan and sanctuary designation process;

7. Economic value of Crustacean Area 1 permits; and

8. Other business as required.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Kitty M. Simonds, (808) 522-8220 (voice) or (808) 522-8226 (fax), at least 5 days prior to meeting date.

Dated: April 13, 2002.
Richard W. Surdi,
Acting Director, Office of Sustainable Fisheries, National Marine Fisheries Service.

[FR Doc. 02-9522 Filed 4-17-02; 8:45 am]

BILLING CODE 3510-22-S